DEPARTMENT OF LABOR

Employment and Training Administration

[TA-W-82,286]

Oshkosh Defense, a Subsidiary of Oshkosh Corporation, Including On-Site Leased Workers From Acountemps, Advantage Federal Resourcing, Aerotek, Cadre, Dyncorp International, EDCI IT Services, LLC, Landmark Staffing Resources, Inc., Larsen and Toubro Limited, MRI Network/Manta Resources, Inc., Omni Resources, Premier Temporary Staffing, Retzlaff Parts and Repair, Roman Engineering, Straight Shot Express, Inc., Teksystems, and Labor Ready, Oshkosh, Wisconsin; Notice of Affirmative Determination Regarding Application for Reconsideration

By application dated March 15, 2013, a representative of the United Auto Workers (UAW), Local 578, requested administrative reconsideration of the negative determination regarding workers' eligibility to apply for Trade Adjustment Assistance (TAA) applicable to workers and former workers of Oshkosh Defense, a subsidiary of Oshkosh Corporation, Oshkosh, Wisconsin (subject firm). The negative determination was issued on February 22, 2013. Workers at the subject firm were engaged in activities related to the production of military, logistical, and tactical vehicles. The workers are not separately identifiable by article produced. The subject worker group includes workers at various facilities in Oshkosh, Wisconsin who are engaged in production of, and administrative functions in support of, the articles produced by the subject firm.

The subject worker group also includes on-site leased workers from Acountemps, Advantage Federal Resourcing, Aerotek, Cadre, Dyncorp International, EDCi IT Services, LLC, Landmark Staffing Resources, Inc., Larsen and Toubro Limited, MRI Network/Manta Resources, Inc., Omni Resources, Premier Temporary Staffing, Retzlaff Parts and Repair, Roman Engineering, Straight Shot Express, Inc., Teksystems, and Labor Ready.

The initial investigation resulted in a negative determination based on the Department's findings that Oshkosh Defense did not import, during the relevant time period, components like or directly competitive with those produced by Oshkosh Defense or finished products using foreign-produced component parts that are like or directly competitive with those manufactured by Oshkosh Defense.

With respect to Section 222(a)(2)(B) of the Act, the investigation revealed that Oshkosh Defense did not shift the production of military, logistical, and tactical vehicles, or like or directly competitive articles, to a foreign country or acquire such articles from a foreign country.

With respect to Section 222(b)(2) of the Act, the investigation revealed that Oshkosh Defense is not a Supplier or Downstream Producer to a firm that employed a group of workers who received a certification of eligibility under Section 222(a) of the Act, 19 U.S.C. 2272(a).

Finally, the group eligibility requirements under Section 222(e) of the Act, have not been satisfied because the workers' firm has not been publically identified by name by the International Trade Commission as a member of a domestic industry in an investigation resulting in an affirmative finding of serious injury, market disruption, or material injury, or threat thereof.

The request for reconsideration alleges that the Department has issued a determination for a worker group other than the one identified by the UAW in its petition. Specifically, the UAW states that the subject firm is Oshkosh Corporation and that UAW has a collective bargaining agreement with Oshkosh Corporation.

The request for reconsideration also alleges that the Department has misunderstood the articles produced at the subject facility. Specifically, the UAW states that the subject facility produces articles for both military and commercial use.

The request for reconsideration also asserts that an article or a component part for military use is like or directly competitive with the same one for commercial use.

In reviewing the administrative record, the Department notes that the subject firm in the petition is identified as both Oshkosh Corporation and Oshkosh Truck and that Exhibit A of the petition is a Worker Adjustment and Retraining Notification Act (“WARN”) letter from Oshkosh Defense.

The Department has carefully reviewed the request for reconsideration and the existing record, and will conduct further investigation to properly identify the subject worker group and to determine if the subject worker group meets the eligibility requirements of the Trade Act of 1974, as amended.

Conclusion

After careful review of the application, I conclude that the claim is of sufficient weight to justify reconsideration of the U.S. Department of Labor's prior decision. The application is, therefore, granted.

Signed at Washington, DC, this 29th day of April, 2013.
Del Min Amy Chen,
Certifying Officer, Office of Trade Adjustment Assistance.

[FR Doc. 2013-11481 Filed 5-14-13; 8:45 am]

BILLING CODE 4510-FN-P